DEPARTMENT OF JUSTICE

Notice of Lodging of Proposed Consent Decree Under the Comprehensive Environmental Response, Compensation, and Liability Act

On November 21, 2014, the Department of Justice lodged a proposed Consent Decree with the United States District Court for the Eastern District of Texas in the lawsuit titled United States, et al., v. Ashland Inc., et al., Civil Action No. 14-cv-574.

The United States, on behalf of the U.S. Environmental Protection Agency, filed this lawsuit pursuant to the Comprehensive Environmental Response, Compensation, and Liability Act (“CERCLA”), 42 U.S.C. 9601-9675, to recover response costs incurred, and obtain a declaratory judgment as to liability for response costs to be incurred, for responding to the releases and threatened releases of hazardous substances at and from the Palmer Barge Superfund Site in Port Arthur, Texas (“the Site”). The Complaint names as defendants Ashland Inc.; E.I. du Pont de Nemours and Co.; Exxon Mobil Corp.; ExxonMobil Oil Corp.; Houston Ship Repair, Inc.; Kirby Corp.; Kirby Inland Marine, LP; Phillips 66 Co.; and Texaco Inc. In the Complaint, which the State of Texas joined, the United States alleges that defendants (or their predecessors in interest) arranged for the disposal of hazardous substances at the Site.

The Consent Decree resolves the United States' claims against each of the named defendants as entities that arranged for disposal of hazardous wastes at the site and, in addition, against defendants Kirby Corp., Kirby Inland Marine, and Phillips 66 as successors in interest to other entities identified in the Consent Decree with CERCLA liabilities at the Site. The Consent Decree also settles potential claims related to the Site that could be brought by the defendants against the United States related to the United States Maritime Administration (“MARAD”), which hired defendant Houston Ship Repair, Inc., to decommission MARAD vessels.

Under the Consent Decree, the settling parties will pay response costs to the United States as follows: Ashland Inc., E.I. du Pont de Nemours and Co., Exxon Mobil Corp., ExxonMobil Oil Corp., Kirby Corp., Kirby Inland Marine, and Phillips 66, collectively, will pay $1,874,804.22; Houston Ship Repair will pay $599,938.12; and MARAD will pay $399,958.75. In return for these payments, the United States agrees not to sue the defendants or the above-described predecessors in interest of Kirby Corp., Kirby Inland Marine, and the Phillips 66, under section 106 or 107 of CERCLA, 42 U.S.C. 9606, § 9607, in connection with the Site.

The publication of this notice opens a period for public comment on the Consent Decree. Comments should be addressed to the Assistant Attorney General, Environment and Natural Resources Division, and should refer to United States, et al. v. Ashland Inc., et al., D.J. Ref. No. 90-11-2-08876. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $10.75 (25 cents per page reproduction cost) payable to the United States Treasury.

Thomas P. Carroll,
Assistant Chief, Environmental Enforcement Section, Environment and Natural Resources Division.

[FR Doc. 2014-28133 Filed 11-26-14; 8:45 am]

BILLING CODE 4410-15-P